DEPARTMENT OF THE INTERIOR

Fish and Wildlife Service

[FWS-R2-ES-2018-N071; FXES11130200000-189-FF02ENEH00]

Endangered and Threatened Wildlife and Plants; Draft Revised Recovery Plan for Texas Snowbells

AGENCY: Fish and Wildlife Service, Interior.

ACTION: Notice of availability; request for comment.

SUMMARY: We, the U.S. Fish and Wildlife Service, announce the availability of our draft revised recovery plan for Texas snowbells, listed as endangered under the Endangered Species Act. Texas snowbells is a rare, endemic shrub of the Edwards Plateau, and is found in Real, Edwards, and Val Verde Counties, Texas. We provide this notice to seek comments from the public and Federal, Tribal, State, and local governments.

DATES: To ensure consideration, we must receive written comments on or before October 2, 2018. However, we will accept information about any species at any time.

ADDRESSES: Reviewing document: You may obtain a copy of the draft revised recovery plan by any one of the following methods:

Internet: Download the file at http://www.fws.gov/southwest/es/AustinTexas/ESA_Species_news.html.

U.S. mail: Send a request to U.S. Fish and Wildlife Service, Austin Ecological Services Field Office, 10711 Burnet Road, Suite 200, Austin, TX 78758; or

Telephone: 512-490-0057.

Submitting comments: Submit your comments in writing by any one of the following methods:

• U.S. mail: Project Leader, at the above Austin Ecological Services Field Office address;

• Hand-delivery: Project Leader, at the above Austin Ecological Services Field Office address;

• Fax: 512-490-0974; or

• Email: chris_best@fws.gov.

For additional information about submitting comments, see Request for Public Comments and Public Availability of Comments under SUPPLEMENTARY INFORMATION.

FOR FURTHER INFORMATION CONTACT: Adam Zerrenner, Field Supervisor, at the above address and phone number, or by email at adam_zerrenner@fws.gov.

SUPPLEMENTARY INFORMATION: We, the U.S. Fish and Wildlife Service (Service), announce the availability of our draft revised recovery plan for Texas snowbells (Styrax platanifolius ssp. texanus; formerly Styrax texanus), listed as endangered under the Endangered Species Act of 1973, as amended (ESA; 16 U.S.C. 1531 et seq.). Texas snowbells is a rare, endemic shrub of the Edwards Plateau, and is found in Real, Edwards, and Val Verde Counties, Texas. The draft revised recovery plan includes specific recovery objectives and criteria that, when achieved, will enable us to remove Texas snowbells from the list of endangered and threatened plants. We request review and comment on this plan from local, State, and Federal agencies; Tribes; and the public. We will also accept any new information on the status of Texas snowbells throughout its range to assist in finalizing the recovery plan.

Background

Recovery of endangered or threatened animals and plants to the point where they are again secure, self-sustaining members of their ecosystems is a primary goal of our endangered species program and the ESA. Recovery means improvement of the status of listed species to the point at which listing is no longer appropriate under the criteria set out in section 4(a)(1) of the ESA. The ESA requires the development of recovery plans for listed species, unless such a plan would not promote the conservation of a particular species. The Service approved a recovery plan for Texas snowbells in 1987; however, the original plan did not establish criteria for reclassifying Texas snowbells from an endangered to threatened status (downlisting) or for removal from the endangered species list (delisting) (Service 1987). Therefore, this plan will serve as a revision to the 1987 recovery plan for Texas snowbells.

We utilized a streamlined approach to recovery planning and implementation by first conducting a species status assessment (SSA) of Texas snowbells (Service 2017), which is a comprehensive analysis of the taxon's needs, current condition, threats, and future viability. The information in the SSA report provides the biological background, a threats assessment, and a basis for a strategy for recovery of Texas snowbells. We then used this information to prepare an abbreviated draft revised recovery plan for Texas snowbells that includes prioritized recovery actions, downlisting and delisting criteria, and the estimated time and cost to recovery. A separate recovery implementation strategy has also been prepared and includes the specific tasks necessary to implement recovery actions (Service 2018).

Summary of Subspecies Information

Texas snowbells is a rare, endemic shrub of the Edwards Plateau of Texas. We listed it as an endangered species, Styrax texanus, on October 12, 1984 (49 FR 40036). We currently recognize this plant as S. platanifolius ssp. texanus, one of five closely related subspecies described in the most recent taxonomic treatment (Fritsch 1997).

When listed as endangered, only 25 individuals had been documented in 5 locations. Since 1986, field surveyors have documented 400 mature and 452 immature Texas snowbells plants in 22 naturally occurring sites over a range of 121 km (75 mi) east to west and 35 km (22 mi) north to south in Real, Edwards, and Val Verde Counties. The known populations occur along watercourses, on or near steep slopes, in exposed limestone and gravel of the upper reaches of the Nueces, West Nueces, and Devils River watersheds. We estimate that about 15,043 ha (37,172 ac) of potential habitat exists in these watersheds.

Texas snowbells usually flowers in April and fertilization is believed to require out-crossing (transfer of pollen between individuals that are not too closely related). The subspecies' pollinators include bumble bees (Bombus sp.), carpenter bees (Xylocopa sp.), and honey bees (Apis sp.). Texas snowbells seed production depends on the grouping of genetically diverse individuals within their pollinators' forage ranges of 0.5 to 1.0 km (0.3 to 0.6 mi). Almost all documented reproduction of Texas snowbells in the wild occurs where at least 56 mature individuals are distributed over a distance of 1.6 km (1.0 mi) or less. For this reason, small population sizes, the isolation of populations, and low levels of genetic diversity are significant factors affecting the viability of the subspecies, viability being defined as the likelihood of persistence over the long term. Other factors affecting the viability of Texas snowbells include severe browsing by native white-tailed deer (Cervus elaphus) and introduced ungulate species, severe floods, and endemism to a small geographic and habitat range. In addition to the above stressors, drought attributed to climate changes and pollinator deficiency are also projected to affect the future viability of Texas snowbells. A large portion of known individuals and populations occurs on privately owned lands where there is no protection under the ESA unless there is a Federal nexus. Activities impacting plants on private lands without Federal involvement are not regulated under the ESA. So, without a Federal nexus, conservation on private lands is entirely voluntary and thus more challenging.

Texas snowbells is endemic to a small geographic area and has a low level of genetic diversity, and therefore has low representation (ability to adapt to environmental changes and to colonize new sites). Since there are few populations, redundancy (the number and geographic distribution of populations or sites necessary to endure catastrophic events) is also low. In addition, population resilience (ability to endure stochastic environmental variation) is low because all known populations are far below the estimated minimum viable population level. In synthesis, the current viability of Texas snowbells is low. For a detailed discussion of the subspecies' natural history, current status, and future viability, please refer to the SSA report for Texas snowbells (Service 2017).

Recovery Plan Goals

The objective of a recovery plan is to provide a framework for the recovery of a species so that protection under the ESA is no longer necessary. A recovery plan includes scientific information about the species and provides criteria and actions necessary for us to be able to reclassify the species to threatened status or remove it from the lists of endangered and threatened wildlife and plants. Recovery plans help guide our recovery efforts by describing actions we consider necessary for the species' conservation, and by estimating time and costs for implementing needed recovery measures.

The original Texas snowbells recovery plan (Service 1987) did not establish delisting or downlisting criteria. The core conservation strategy of the revised plan is to increase recruitment and decrease mortality, thereby allowing populations of Texas snowbells to grow naturally. One recovery objective is to reduce the intensity of ungulate browsing throughout the subspecies' range, allowing populations to become self-sustaining without human intervention. Another recovery objective is population augmentation and strategic placement of reintroduced populations to restore population connectivity, thereby enhancing gene flow and fertilization between genetically diverse individuals and populations. To date, cooperating landowners and volunteers have made significant progress toward accomplishing these objectives.

The downlisting and delisting criteria provided in the revised recovery plan are based on the natural recruitment of new Texas snowbells individuals, their growth to maturity, and the increase of populations to a viable level that is sustained without human intervention. The time required to improve the viability of Texas snowbells is influenced largely by its life history.

Request for Public Comments

Section 4(f) of the ESA requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species, ongoing beneficial management efforts, and the costs associated with implementing the recommended recovery actions.

Public Availability of Comments

All comments received, including names and addresses, will become part of the administrative record and will be available to the public. Before including your address, phone number, electronic mail address, or other personal identifying information in your comment, you should be aware that your entire comment—including your personal identifying information—will be publicly available. If you submit a hardcopy comment that includes personal identifying information, you may request at the top of your document that we withhold this information from public review. However, we cannot guarantee that we will be able to do so. Comments and materials we receive will be available, by appointment, for public inspection during normal business hours at our office (see ADDRESSES).

Authority

We developed our draft recovery plan and publish this notice under the authority of section 4(f) of the Endangered Species Act of 1973, as amended (16 U.S.C. 1531 et seq.).

Dated: May 24, 2018.
Amy L. Lueders,
Regional Director, Southwest Region.

[FR Doc. 2018-16655 Filed 8-2-18; 8:45 am]

BILLING CODE 4333-15-P